DEPARTMENT OF HOUSING AND URBAN DEVELOPMENT

24 CFR Part 1000

[Docket No. FR-4968-N-02]

Indian Housing Block Grant Program; Notice of Proposed Negotiated Rulemaking Committee Membership

AGENCY: Office of the Assistant Secretary for Public and Indian Housing, HUD.

ACTION: Notice of proposed negotiated rulemaking committee membership.

SUMMARY: HUD announces its list of proposed members for its Indian Housing Block Grant Negotiated Rulemaking Committee (Committee), and requests public comments on the proposed membership. The Committee will provide advice and recommendations on developing a proposed rule for effectuating changes to the Indian Housing Block Grant (IHBG) Program in response to statutory amendments to the Native American Housing Assistance and Self-Determination Act of 1996 (NAHASDA). This document follows publication of a February 22, 2005, notice that advised the public of HUD's intent to establish the Committee and solicited nominations for Committee membership.

DATES: Comment Due Date: April 28, 2006.

ADDRESSES: Interested persons are invited to submit comments regarding this notice to the Regulations Division, Office of General Counsel, Department of Housing and Urban Development, 451 Seventh Street, SW., Room 10276, Washington, DC 20410-0500. Interested persons may also submit comments electronically through the federal electronic rulemaking portal at: http://www.regulations.gov. Facsimile (FAX) comments are not acceptable. All communications must refer to the docket number and title. All comments and communications submitted will be available, without revision, for public inspection and copying between 8 a.m. and 5 p.m. weekdays at the above address. Due to security measures at the HUD Headquarters building, an advance appointment to review the public comments must be scheduled by calling the Regulations Divisions at (202) 708-3055 (this is not a toll-free number). Copies of the public comments submitted electronically are also available for inspection and downloading at http://www.regulations.gov.

FOR FURTHER INFORMATION CONTACT: Rodger J. Boyd, Deputy Assistant Secretary for Native American Programs, Department of Housing and Urban Development, Office of Public and Indian Housing, 451 Seventh Street, SW., Room 4126, Washington, DC 20410-5000; telephone 202-401-7914 (this telephone number is not toll-free). Individuals with speech or hearing impairments may access this number through TTY by calling the toll-free Federal Information Relay Service at 1-800-877-8339.

SUPPLEMENTARY INFORMATION:

I. Background

On February 22, 2005 (70 FR 8674), HUD published a notice to announce the Department's intent to establish a Committee that will provide advice and recommendations on developing a rule for effectuating certain statutory changes to the IHBG Program. The basic concept of negotiated rulemaking is to have the agency that is considering drafting a rule bring together representatives of affected interests for face-to-face negotiations that are open to the public. The Committee's role will be advisory and the Committee's goal will be to provide recommendations to HUD for development of a proposed rule.

II. Proposed Membership of Negotiated Rulemaking Committee

This notice announces HUD's list of proposed members to the Committee, and requests public comment on the proposed Committee membership. In making its proposed selections for membership on the Committee, HUD's goal was to establish a Committee whose membership reflects a balanced representation of Indian tribes. Selections were based on those nominees who met the eligibility criteria for membership contained in the February 22, 2005, Federal Register notice. In addition to the tribal members of the Committee, there will be two HUD representatives on the Committee. After consideration of all the public comments received on this proposed list of Committee members, HUD will announce the final composition of the Committee in a subsequent Federal Register notice.

HUD proposes to make the following selections for tribal membership on the Committee:

• Jason Adams, Executive Director, Salish-Kootenai Housing Authority

• Steven Angasan, Vice President, Naknek Native Village Council

• Bill Anoatubby, Governor, Chickasaw Nation

• Phil Bush, Executive Director, Modoc Lassen Indian Housing Authority

• Brad Campbell, Executive Director, Iowa, Kansas, & Neb. Housing Authority

• Wesley Edmo, Vice Chairman, The Shoshone-Bannock Tribes (Fort Hall)

• Jamie Garner, Director, Snoqualmie Tribe Housing Authority

• Carol Gore, President, Cook Inlet Housing Authority

• Susie Hay, Executive Director, Chippewa Cree Housing Authority

• Mary Honhongva, Director, Upper Skagit Indian Tribe Housing Authority

• Terry Hudson, Executive Director, Northern Pueblos Housing Authority

• Leon Jacobs, Tribal Administrator, Lumbee Tribe of North Carolina

• Blake Kazama, President, Tlingit & Haida Regional Housing Authority

• Carolyn O'Neil, Housing Director, Sault Ste. Marie Tribe of Chippewa Indians

• Jack Sawyers, Executive Director, Utah Paiute Housing Authority

• Richard Schroeder, Business Manager, Turtle Mountain Housing Authority, TDHE

• Marty Shuravloff, Executive Director, Koniag Inc./Kodiak Island Housing Authority

• Chad Smith, Principal Chief, Cherokee Nation

• Russell Sossamon, Executive Director, Housing Authority of the Choctaw Nation

• Leonard Teller, Chairman, Navajo Housing Authority

• Darlene Tooley, Executive Director, Northern Circle Housing Authority

• Eddie L. Tullis, Chairman, Poarch Band of Creek Indians

• Laurie Voshell, Housing Director, Confederated Tribes of Coos, Lower Umpqua & Suislaw Indians

• Teresa Vogel, Executive Director, Grand Portage Housing Authority

III. Requests for Representation

Consistent with section 565 of the Negotiated Rulemaking Act, Committee members shall be selected by HUD. Although this notice announces the results of a request for representation, if you are interested in serving as a member of the Committee or in nominating a different person to serve as a member of the Committee, you may submit a written nomination to HUD at the address listed in the ADDRESSES section of this notice. Your nomination for membership on the Committee must include:

1. The name of your nominee and a description of the interests the nominee would represent;

2. Evidence that your nominee is authorized to represent a tribal government, which may include the tribally designed housing entity of a tribe with the interests the nominee would represent, so long as the tribe provides evidence that it authorizes such representation; and

3. A written commitment that the nominee will actively participate in good faith in the development of the rule.

HUD will determine whether a proposed member will be included in the makeup of the Committee. HUD will make that decision based on whether a proposed member would be significantly affected by the proposed rule, whether the interest of the proposed member could be represented adequately by other members, and whether space permits.

IV. Identification of Issues for Negotiation

As stated in the February 22, 2005 notice, the NAHASDA Amendments (enacted in 2000 and 2002) that will be the subject of negotiated rulemaking include:

1. Environmental provisions under section 105(d) of NAHASDA (2000);

2. Review and audit provisions under section 405 of NAHASDA (2000);

3. Noncompliance actions under section 401(a) of NAHASDA (2000);

4. Performance Agreement under section 401(b) of NAHASDA (2000);

5. Program income under section 104(a) of NAHASDA (2002); and

6. Definition of “housing related community development” under section 4(22) of NAHASDA (2002).

HUD plans to obtain the services of a convener, whose task will be to consult with interested parties to gain an understanding of their interests and concerns relative to the issues listed above, which will be addressed during the negotiated rulemaking, and to determine what other issues are feasible for negotiation. The convener will contact a representative sampling of stakeholders to discuss the issues to be negotiated and to identify additional potential issues and will provide a report to HUD on the findings and conclusions of the consultation. HUD will then determine what additional issues, if any, will be negotiated in this negotiated rulemaking. Due to limitations on resources, some issues may be scheduled for a subsequent negotiated rulemaking.

V. Committee Meetings

The negotiated rulemaking sessions will consist of full Committee meetings only. The Committee may decide to establish workgroups, but workgroups sessions will be conducted separately from meetings of the full Committee. HUD will encourage all Committee members to utilize telephone conference calls and the use of electronic media to accomplish work and narrow the issues prior to each Committee meeting.

At this time, HUD has not yet finalized the schedule for the Committee meetings. Advance notice of Committee meetings will be published in the Federal Register. HUD anticipates that a maximum of five meetings will be held, subject to the availability of resources. Meetings of the Committee will be open to the public without advance registration. Public attendance may be limited to the space available. Members of the public will be provided with an opportunity to make statements during the meeting to the extent that time permits, and file written statements with the Committee for its consideration. In the event that the logistics of the Committee meetings are changed, HUD will advise the public through Federal Register notice.

VI. Administrative Support

HUD will take steps to ensure that the Committee has the dedicated resources it requires to conduct its work in a timely fashion, consistent with the requirements of the Negotiated Rulemaking Act of 1990.

Dated: March 21, 2006.
Paula O. Blunt,
General Deputy Assistant Secretary for Public and Indian Housing.

[FR Doc. 06-2984 Filed 3-28-06; 8:45 am]

BILLING CODE 4210-67-P